DEPARTMENT OF ENERGY

Federal Energy Regulatory Commission

Combined Notice of Filings #1

Take notice that the Commission received the following exempt wholesale generator filings:

Docket Numbers: EG20-170-000.

Applicants: Cedar Springs Wind III, LLC.

Description: Notice of Self-Certification of Exempt Wholesale Generator Status of Cedar Springs Wind III, LLC.

Filed Date: 5/28/20.

Accession Number: 20200528-5285.

Comments Due: 5 p.m. ET 6/18/20.

Docket Numbers: EG20-171-000.

Applicants: Cedar Springs Wind, LLC.

Description: Notice of Self-Certification of Exempt Wholesale Generator Status of Cedar Springs Wind, LLC.

Filed Date: 5/28/20.

Accession Number: 20200528-5295.

Comments Due: 5 p.m. ET 6/18/20.

Docket Numbers: EG20-172-000.

Applicants: Cedar Springs Transmission LLC.

Description: Notice of Self-Certification of Exempt Wholesale Generator Status of Cedar Springs Transmission LLC.

Filed Date: 5/28/20.

Accession Number: 20200528-5299.

Comments Due: 5 p.m. ET 6/18/20.

Take notice that the Commission received the following electric rate filings:

Docket Numbers: ER19-404-003.

Applicants: Public Service Company of Colorado.

Description: Compliance filing: OATT-Att O-SPS-Depr-ADIT-Compliance: ER19-404 to be effective 2/1/2019.

Filed Date: 5/28/20.

Accession Number: 20200528-5126.

Comments Due: 5 p.m. ET 6/18/20.

Docket Numbers: ER19-2722-001.

Applicants: PJM Interconnection, L.L.C.

Description: Compliance filing: Errata to Pending Fast-Start Compliance Filing to be effective 12/31/9998.

Filed Date: 5/28/20.

Accession Number: 20200528-5265.

Comments Due: 5 p.m. ET 6/18/20.

Docket Numbers: ER20-1449-001.

Applicants: Midcontinent Independent System Operator, Inc, Entergy Services, LLC.

Description: Tariff Amendment: 2020-05-29; Entergy NOL Extension of Time Filing to be effective 12/31/9998.

Filed Date: 5/29/20.

Accession Number: 20200529-5103.

Comments Due: 5 p.m. ET 6/19/20.

Docket Numbers: ER20-1748-000; ER20-1747-000.

Applicants: Ewington Energy Systems, LLC, South Fork Wind, LLC.

Description: Clarification to May 1, 2020, Ewington Energy Systems, LLC, et al. tariff filings.

Filed Date: 5/21/20.

Accession Number: 20200521-5145.

Comments Due: 5 p.m. ET 6/8/20.

Docket Numbers: ER20-1915-000.

Applicants: Maverick Solar, LLC.

Description: Baseline eTariff Filing: Initial Market-Based Rate Petition of Maverick Solar to be effective 7/28/2020.

Filed Date: 5/28/20.

Accession Number: 20200528-5273

Comments Due: 5 p.m. ET 6/18/20.

Docket Numbers: ER20-1916-000.

Applicants: Maverick Solar 4, LLC.

Description: Baseline eTariff Filing: Initial Market-Based Rate Petition of Maverick Solar 4 to be effective 7/28/2020.

Filed Date: 5/28/20.

Accession Number: 20200528-5289.

Comments Due: 5 p.m. ET 6/18/20.

Docket Numbers: ER20-1917-000.

Applicants: EF Oxnard LLC.

Description: Baseline eTariff Filing: EF Oxnard Service Agreement Baseline to be effective 6/1/2020.

Filed Date: 5/28/20.

Accession Number: 20200528-5305.

Comments Due: 5 p.m. ET 6/18/20.

Docket Numbers: ER20-1918-000.

Applicants: Public Service Company of Colorado.

Description: § 205(d) Rate Filing: PSC-TSGT-OOM-ComancheTerm-542-0.0.0-Filing to be effective 5/30/2020.

Filed Date: 5/29/20.

Accession Number: 20200529-5040.

Comments Due: 5 p.m. ET 6/19/20.

Docket Numbers: ER20-1919-000.

Applicants: Versant Power.

Description: Notice of Termination of Interconnection Agreement of Versant Power.

Filed Date: 5/28/20.

Accession Number: 20200528-5359.

Comments Due: 5 p.m. ET 6/18/20.

Docket Numbers: ER20-1921-000.

Applicants: Southwest Power Pool, Inc.

Description: § 205(d) Rate Filing: Revisions to Attachment AF to Clarify Market Mitigation Process to be effective 8/3/2020.

Filed Date: 5/29/20.

Accession Number: 20200529-5044.

Comments Due: 5 p.m. ET 6/19/20.

Docket Numbers: ER20-1922-000.

Applicants: Midcontinent Independent System Operator, Inc.

Description: § 205(d) Rate Filing: 2020-05-29_SA 3190 Alta Farms Wind-Ameren Illinois 1st Rev GIA (J474) to be effective 5/14/2020.

Filed Date: 5/29/20.

Accession Number: 20200529-5134.

Comments Due: 5 p.m. ET 6/19/20.

Docket Numbers: ER20-1923-000.

Applicants: Louisiana Generating LLC.

Description: Request to Recover Costs Associated with Acting as a Local Balancing Authority of Louisiana Generating LLC.

Filed Date: 5/29/20.

Accession Number: 20200529-5155.

Comments Due: 5 p.m. ET 6/19/20.

Docket Numbers: ER20-1924-000.

Applicants: Aequitas Energy, Inc.

Description: Tariff Cancellation: Tariff cancellation to be effective 6/1/2020.

Filed Date: 5/29/20.

Accession Number: 20200529-5219

Comments Due: 5 p.m. ET 6/19/20.

Docket Numbers: ER20-1925-000.

Applicants: energy.me midwest, llc.

Description: Tariff Cancellation: Tariff cancellation to be effective 6/1/2020.

Filed Date: 5/29/20.

Accession Number: 20200529-5223.

Comments Due: 5 p.m. ET 6/19/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2020.
Kimberly D. Bose,
Secretary.

[FR Doc. 2020-12053 Filed 6-3-20; 8:45 am]

BILLING CODE 6717-01-P